DEPARTMENT OF DEFENSE

Office of the Secretary

[Docket ID DoD-2014-OS-0159]

Privacy Act of 1974; System of Records

AGENCY: Office of the Secretary of Defense, DoD.

ACTION: Notice to alter a System of Records.

SUMMARY: The Office of the Secretary of Defense proposes to alter a system of records, DPR 40 DoD, entitled “Wounded Warrior Care and Recovery Transition Coordination Program System Solution” in its inventory of record systems subject to the Privacy Act of 1974, as amended.

This system is used to improve the timeliness, efficacy, and transparency of the care, management, and transition of recovering Service Members or eligible family members and caregivers receiving support (as defined in DoD Instruction 1300.24). Contact information is used by case managers to facilitate the uniformity and effectiveness of care and/or transition from active duty to temporary or permanent retirement for eligible individuals. These records are also used as a management tool for statistical analysis, tracking, reporting, evaluating program effectiveness and conducting research.

DATES: Comments will be accepted on or before January 29, 2015. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site at http://dpcld.defense.gov/.

The proposed system report, as required by 5 U.S.C. 552a(r) of the Privacy Act of 1974, as amended, was submitted on December 16, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 22, 2014.
Aaron Siegel,
Alternate OSD Federal Register Liaison Officer, Department of Defense.

DPR 40 DoD

System name:

Wounded Warrior Care and Recovery Transition Coordination Program System Solution (September 27, 2010, 75 FR 59236).

Changes:

* * * * *

System name:

Delete entry and replace with “Recovery Coordination Program Support Solution.”

System location:

Delete entry and replace with “Defense Information Systems Agency (DISA), Defense Enterprise Computing Center (DECC), Mechanicsburg Building 308, Naval Support Activity (NSA), 5450 Carlisle Pike, Mechanicsburg, PA 17050-0975.”

Categories of individuals covered by the system:

Delete entry and replace with “Recovering Service members (RSMs) who have been wounded, injured or have an illness, and their spouses, dependents, and caregivers. RSMs may be undergoing medical treatment, recuperation or therapy; or may be assigned to a temporary disability retired or permanent disability retired list pending Military Department disability evaluation system proceedings.”

Categories of records in the system:

Delete entry and replace with “Name; rank/grade; Social Security Number (SSN) and truncated SSN; Department of Defense identification number (DoD ID); date of birth; current address; home telephone number; Service, component, service separation information including Permanent Duty Retirement List (PDRL), Temporary Duty Retirement List (TDRL), medical separation, limited injury and illness-specific medical information, and other personnel management data specifically awards, Military Occupational Specialty (MOS), time in service, education information, end active obligated service date, demobilization date, separation date, retirement date, temporary disability retirement list date, permanent disability retirement; and spouse, dependents and/or primary caregiver name, address, and telephone number (home, cell and/or work).”

* * * * *

Purpose(s):

Delete entry and replace with “To improve the timeliness, efficacy, and transparency of the care, management, and transition of recovering Service Members or eligible family members and caregivers receiving support (as defined in DoD Instruction 1300.24). Contact information is used by case managers to facilitate the uniformity and effectiveness of care and/or transition from active duty to temporary or permanent retirement for eligible individuals. These records are also used as a management tool for statistical analysis, tracking, reporting, evaluating program effectiveness and conducting research.”

Routine uses of records maintained in the system, including categories of users and the purposes of such uses:

Delete entry and replace with “In addition to those disclosures generally permitted under 5 U.S.C. 552a(b) of the Privacy Act of 1974, as amended, these records may specifically be disclosed outside the DoD as a routine use pursuant to 5 U.S.C. 552a(b)(3) as follows:

Service member records are shared with the Department of Veterans Affairs (VA) as a checklist upon completion of the program with the DoD.

Law Enforcement Routine Use:

If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use:

Disclosure from a system of records maintained by a DoD Component may be made to a congressional office from the record of an individual in response to an inquiry from the congressional office made at the request of that individual.

Disclosure to the Department of Justice for Litigation Routine Use:

A record from a system of records maintained by a DoD Component may be disclosed as a routine use to any component of the Department of Justice for the purpose of representing the Department of Defense, or any officer, employee or member of the Department in pending or potential litigation to which the record is pertinent.

Disclosure of Information to the National Archives and Records Administration Routine Use:

A record from a system of records maintained by a DoD Component may be disclosed as a routine use to the National Archives and Records Administration for the purpose of records management inspections conducted under authority of 44 U.S.C. 2904 and 2906.

Data Breach Remediation Purposes Routine Use:

A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.”

Policies and practices for storing, retrieving, accessing, retaining, and disposing of records in the system:

Storage:

Delete entry and replace with “Electronic storage media.”

Retrievability:

Delete entry and replace with “Last name, SSN, DoD ID number, Service, component.”

Safeguards:

Delete entry and replace with “The servers are maintained at a military installation with 24-hour guards and maintained in a locked facility. The servers and terminals are located in restricted areas accessible only to authorized persons that are properly screened, cleared and trained. A system administrator grants specific access privileges and users are authenticated. Access requires valid Common Access Card (CAC)-based certificates and PIN. Records are maintained in a secure, password protected electronic system that utilizes security hardware and software that includes multiple firewalls, active intruder detection, encryption at rest and in transit, external certificates, DoD public key infrastructure certificates and role-based access controls.”

Retention and disposal:

Delete entry and replace with “Disposition pending (until the National Archives and Records Administration approves the retention and disposal schedule, records will be treated as permanent).”

System manager(s) and address:

Delete entry and replace with “Principal Deputy for Care Coordination, Office of Warrior Care Policy, Office of the Secretary of Defense, OUSD (P&R) WCP, 200 Stovall Street, Alexandria, VA 22332-0800.”

Notification procedure:

Delete entry and replace with “Individuals seeking to determine whether information about themselves is contained in this system should address written inquiries to the Principal Deputy for Care Coordination, Office of Warrior Care Policy, Office of the Secretary of Defense, OUSD (P&R) WCP, 200 Stovall Street, Alexandria, VA 22332-0800.

Signed, written requests must contain the individual's full name, mailing address and SSN.”

Record access procedures:

Delete entry and replace with “Individuals seeking access to information about themselves contained in this system should address written inquiries to the Office of the Secretary of Defense/Joint Staff Freedom of Information Act Requester Service Center, 1155 Defense Pentagon, Washington DC 20301-1155.

Signed, written requests must include the name and number of this system of record notice, the Service member's full name and SSN.”

Contesting record procedures:

Delete entry and replace with “The Office of the Secretary of Defense (OSD) rules for accessing records, for contesting contents and appealing initial agency determinations are published in OSD Administrative Instruction 81, 32 CFR part 311; or may be obtained from the system manager.”

Record source categories:

Delete entry and replace with “Service members, Defense Enrollment Eligibility Reporting System (DEERS), Operational Data Store Enterprise (ODSE) system, Total Force Data Warehouse, and Defense Casualty Information Processing System (DCIPS).”

* * * * *

[FR Doc. 2014-30364 Filed 12-29-14; 8:45 am]

BILLING CODE 5001-06-P